DEPARTMENT OF HOMELAND SECURITY

Transportation Security Administration

Intent To Request Approval From OMB of One New Public Collection of Information: Security Appointment Center (SAC) Visitor Request Form and Foreign National Vetting Request

AGENCY: Transportation Security Administration, DHS.

ACTION: 60-day Notice.

SUMMARY: The Transportation Security Administration (TSA) invites public comment on a new Information Collection Request (ICR) abstracted below that we will submit to the Office of Management and Budget (OMB) for approval in compliance with the Paperwork Reduction Act (PRA). The ICR describes the nature of the information collection and its expected burden. The collection involves gathering information from individuals who plan to visit all TSA facilities in the National Capital Region.

DATES: Send your comments by February 21, 2017.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

The Secretary of the Department of Homeland Security (DHS) is authorized to protect property owned, occupied, or secured by the Federal Government. See 40 U.S.C. 1315. See also 41 CFR 102-81.15 (requires Federal agencies to be responsible for maintaining security at their own or leased facilities). DHS Instruction Manual 121-01-011-01 (Visitor Management for DHS Headquarters and DHS Component Headquarters Facilities (April 19, 2014)) requires all DHS components to vet visitors using the National Crime Information Center (NCIC) Wants & Warrants/Criminal History checks before allowing them access to the building.

Purpose and Description of Data Collection

TSA has established a visitor management/vetting process that meets DHS requirements. This process allows TSA to conduct business with visitors and guest workers, while managing risks posed by individuals entering the building who have not been subject to a full employee security background check. Once vetted, TSA's Visitor Management System (VMS) generates temporary paper badges with photographs that visitors must wear when entering TSA facilities in the National Capital Region (NCR) ¹ for the duration of their visit.

¹ TSA facilities in the National Capital Region include TSA Headquarters, the Freedom Center, the Transportation Security Integration Facility (TSIF), the Metro Park office complex (Metro Park), and the Annapolis Junction facility (AJ).

Under TSA's current visitor management/vetting process, visitors seeking to enter the TSA facilities must request access in person or through a current TSA employee by completing TSA Form 2802, Security Appointment Center (SAC) Visitor Request Form. TSA Form 2802 requires that visitors provide their first and last name, date and time of visit, visitor type (DHS or other government visitor), and whether they are a foreign or national visitor. In order to complete the new vetting process, TSA must collect Personally Identifiable Information (PII). The information collection includes the information TSA previously collected, and date of birth and social security number. TSA will use this information to vet visitors via the NCIC Wants & Warrants/Criminal History Checks and maintain records of access to TSA facilities.

TSA estimates the average annual number of visitors for 2016 through 2018 to be 42,843, with an annual time burden to the public of 714 hours.

Use of Results

TSA will use the results to determine the suitability of visitors to the TSA NCR locations. The collection would support the information needs of TSA to comply with security procedures to ensure a safe and secure work environment for TSA facilities' employees, contractors, and visitors.

Dated: December 15, 2016.
Christina A. Walsh,
TSA Paperwork Reduction Act Officer, Office of Information Technology.

[FR Doc. 2016-30662 Filed 12-20-16; 8:45 am]

BILLING CODE 9110-05-P